DEPARTMENT OF HEALTH AND HUMAN SERVICES

National Institutes of Health

Office of the Secretary; Notice of Meeting

Pursuant to section 1009 of the Federal Advisory Committee Act, as amended, notice is hereby given of a meeting of the Muscular Dystrophy Coordinating Committee (MDCC).

This will be a hybrid meeting held in-person and virtually and will be open to the public as indicated below. Individuals who plan to attend in-person or view the virtual meeting and need special assistance or other reasonable accommodations, should notify the Contact Person listed below in advance of the meeting. The meeting can be accessed from the NIH Videocast at the following link: https://videocast.nih.gov/.

Name of Committee: Muscular Dystrophy Coordinating Committee.

Date: November 22, 2024.

Time: 9:00 a.m. to 4:00 p.m. ET.

Agenda: The purpose of this meeting is to bring together committee members, representing government agencies, patient advocacy groups, other voluntary health organizations and people with lived experience to discuss topics of interest to the muscular dystrophy communities and renewal of the committee's strategic plan, the Action Plan for the Muscular Dystrophies. The committee will discuss gaps and opportunities to better understand the muscular dystrophies, advance treatments and improve the lives of affected individuals.

Registration: To register, please go to: https://web.cvent.com/event/ebf9b0d2-a61e-400b-b8d9-5624d3d51f28/summary.

Place: National Institutes of Health, Neuroscience Center, 6001 Executive Boulevard, Room 1255/1265, Rockville, MD 20852 (In-person and Virtual Meeting).

Contact Person: Glen Nuckolls, Ph.D., National Institute of Neurological Disorders and Stroke (NINDS), NIH, 6001 Executive Blvd., Rockville, MD 20852, 301-496-5876, glen.nuckolls@nih.gov.

Any interested person may file written comments with the committee by forwarding the statement to the Contact Person listed on this notice. The statement should include the name, address, telephone number and when applicable, the business or professional affiliation of the interested person.

In the interest of security, NIH has procedures at https://www.nih.gov/about-nih/visitor-information/campus-access-security for entrance into on-campus and off-campus facilities. All visitor vehicles, including taxicabs, hotel, and airport shuttles will be inspected before being allowed on campus. Visitors attending a meeting on campus or at an off-campus federal facility will be asked to show one form of identification (for example, a government-issued photo ID, driver's license, or passport) and to state the purpose of their visit.

Information is also available on the Muscular Dystrophy Coordinating Committee website https://mdcc.nih.gov/, where an agenda and any addition information for the meeting will be posted when available.

Dated: October 18, 2024.
Miguelina Perez,
Program Analyst, Office of Federal Advisory Committee Policy.

[FR Doc. 2024-24642 Filed 10-23-24; 8:45 am]

BILLING CODE 4140-01-P